DEPARTMENT OF THE INTERIOR

Bureau of Land Management

[AZ-910-0777-26-241A]

State of Arizona Resource Advisory Council Meeting

AGENCY: Bureau of Land Management, Interior.

ACTION: Arizona Resource Advisory Council Meeting notice.

SUMMARY: This notice announces a meeting and tour of the Arizona Resource Advisory Council (RAC). The meeting will be held on May 11, 2000, at the Sierra Suites Hotel, 391 E. Fry Blvd., located in Sierra Vista, Arizona. It will begin at 9:00 a.m. and will conclude at approximately 4:00 p.m. The agenda items to be covered include the review of the March 31, 2000, meeting minutes; BLM State Director's Update on legislation, regulations, and statewide planning efforts; Update on Wild Horse and Burro Strategic Plan Comments; Video Presentation of Secretary Babbitt's Address on National Landscape Conservation System; Presentation on Wilderness Access/Valid Existing Rights and Recent IBLA Decisions; Update Proposed Field Office Rangeland Resource Teams; Reports from BLM Field Office Managers; Reports by the Standards and Guidelines, Recreation and Public Relations, Wild Horse and Burro Working Groups; Reports from RAC members; and Discussion of future meetings. A public comment period will be provided at 11:00 a.m. on May 11, 2000, for any interested publics who wish to address the Council. On May 12, the RAC will tour the BLM San Pedro Riparian National Conservation Area. The tour will highlight some of the issues facing the San Pedro River and the riparian corridor, including recreation, wildlife, water and border issues.

For Further Information Contact: Deborah Stevens, Bureau of Land Management, Arizona State Office, 222 North Central Avenue, Phoenix, Arizona 85004-2203, (602) 417-9215.

Denise P. Meridith,
Arizona State Director.

[FR Doc. 00-9890 Filed 4-19-00; 8:45 am]

BILLING CODE 4310-32-M